SECURITIES AND EXCHANGE COMMISSION

[Release No. 34-97043; File No. 10-239]

24X National Exchange LLC; Notice of Withdrawal of Application for Registration as a National Securities Exchange Under Section 6 of the Securities Exchange Act of 1934

March 3, 2023.

On March 25, 2022, 24X National Exchange LLC (“24X” or “Exchange”) filed with the Securities and Exchange Commission (“Commission”) a Form 1 application under the Securities Exchange Act of 1934 (“Act”), seeking registration as a national securities exchange under Section 6 of the Act ¹ (“Form 1 Application”). Notice of the Form 1 Application was published for comment in the Federal Register on June 6, 2022.² The Commission received three comments on the Form 1 Application and a letter in response to the comments from 24X.³ On September 1, 2022, the Commission instituted proceedings pursuant to Section 19(a)(1)(B) of the Act ⁴ (the “OIP”) to determine whether to grant or deny 24X's Form 1 Application.⁵ The Commission received one comment letter in response to the OIP and a letter in response to the OIP from 24X.⁶ On October 21, 2022, 24X filed an amendment to its Form 1 Application (“Amendment No.1”).⁷ Notice of Amendment No. 1 was published for comment in the Federal Register on November 9, 2022.⁸ On November 10, 2022, 24X filed a second amendment to its Form 1 Application (“Amendment No. 2”).⁹ Notice of Amendment No. 2 was published for comment in the Federal Register on November 22, 2022.¹⁰ On November 18, 2022, the Commission extended the time to determine whether to grant or deny the application.¹¹ The Commission received a comment letter after the publication of extension of time.¹²

¹ 15 U.S.C. 78f.

² See Securities Exchange Act Release No. 95007 (May 31, 2022), 87 FR 34333 (June 6, 2022).

³ Comment and response letters relating to the Form 1 Application are available on the Commission's website at https://www.sec.gov/comments/10-239/10-239.htm.

⁴ 15 U.S.C. 78s(a)(1)(B).

⁵ See Securities Exchange Act Release No. 95651 (Sept. 1, 2022), 87 FR 54736 (Sept. 7, 2022).

⁶ See supra note 3.

⁷ Amendment No. 1 is available on the Commission's website at https://www.sec.gov/rules/other/2022/24x/24x-form-1.htm.

⁸ See Securities Exchange Act Release No. 96218 (Nov. 3, 2022), 87 FR 67725 (Nov. 9, 2022).

⁹ Amendment No. 2 is available on the Commission's website at https://www.sec.gov/rules/other/2022/24x/24x-form-1.htm.

¹⁰ See Securities Exchange Act Release No. 96337 (Nov. 17, 2022), 87 FR 71388 (Nov. 22, 2022).

¹¹ See Securities Exchange Act Release No. 96364 (Nov. 18, 2022), 87 FR 72553 (Nov. 25, 2022).

¹² See supra note 3.

On February 16, 2023, the Exchange withdrew the Form 1 Application (File No. 10-239).¹³

¹³ See letter from Paul Adcock, Head of Equities and Senior Director, 24X, to Vanessa Countryman, Secretary, Commission, dated Feb. 16, 2023.

By the Commission.
Sherry R. Haywood,
Assistant Secretary.

[FR Doc. 2023-04797 Filed 3-8-23; 8:45 am]

BILLING CODE 8011-01-P